DEPARTMENT OF EDUCATION

National Assessment Governing Board Quarterly Board Meeting

AGENCY: National Assessment Governing Board, U.S. Department of Education.

ACTION: Announcement of open and closed meetings.

SUMMARY: This notice sets forth the agenda for the March 3-5, 2016 Quarterly Meeting of the National Assessment Governing Board (hereafter referred to as Governing Board). This notice provides information to members of the public who may be interested in attending the meeting or providing written comments on the meeting. The notice of this meeting is required under section 10(a)(2) of the Federal Advisory Committee Act (FACA).

DATES: The Quarterly Board meeting will be held on the following dates:

• March 3, 2016 from 2:30 p.m. to 6:00 p.m.

• March 4, 2016 from 8:30 a.m. to 5:00 p.m.

• March 5, 2016 from 7:30 a.m. to 12:00 p.m.

ADDRESSES: Hilton Arlington, 950 Stafford Street, Arlington, VA 22203.

FOR FURTHER INFORMATION CONTACT: Munira Mwalimu, Executive Officer/Designated Federal Official, 800 North Capitol Street NW., Suite 825, Washington, DC 20002, telephone: (202) 357-6938, fax: (202) 357-6945.

SUPPLEMENTARY INFORMATION:

Statutory Authority and Function: The National Assessment Governing Board is established under title III—National Assessment of Educational Progress Authorization Act, Public Law 107-279. Information on the Board and its work can be found at www.nagb.gov.

The Board is established to formulate policy for the National Assessment of Educational Progress (NAEP). The Board's responsibilities include the following: selecting subject areas to be assessed, developing assessment frameworks and specifications, developing appropriate student achievement levels for each grade and subject tested, developing standards and procedures for interstate and national comparisons, improving the form and use of NAEP, developing guidelines for reporting and disseminating results, and releasing initial NAEP results to the public.

March 3-5, 2016 Committee Meetings

The Board's standing committees will meet to conduct regularly scheduled work, based on agenda items planned for this quarterly Board meeting, and follow-up items as reported in the Board's committee meeting minutes available at http://nagb.gov/what-we-do/board-committee-reports-and-agendas.html.

Detailed Meeting Agenda: March 3-5, 2016

March 3: Inside NAEP: Taking the NAEP Technology and Engineering Literacy Assessment: Closed Session: 2:30 p.m.-4:00 p.m.

March 3: Executive Committee: Closed Session: 4:30 p.m.-5:20 p.m.; Open Session: 5:20 p.m.-6:00 p.m.

March 4: Full Board Meeting

Full Board: Open Session: 8:30 a.m.-10:00 a.m.; Closed Session: 1:00 p.m.-2:30 p.m.; Open Session 3:00 p.m.-5:00 p.m.

March 4: Committee Meetings

Reporting and Dissemination Committee (R&D): Open Session 10:15 a.m.-12:00 p.m.; Closed Session 12:05 p.m.-12:35 p.m.; Open Session 12:35 p.m. -12:45 p.m.

Assessment Development Committee (ADC): Open Session: 10:15 a.m.-10:50 a.m.; Closed Session: 10:50 a.m.-12:45 p.m.

Committee on Standards, Design and Methodology (COSDAM): Open Session: 10:15 a.m.-11:20 a.m.; Closed Session: 11:20 a.m.-12:25 p.m.; Open Session: 12:25 p.m.-12:45 p.m.

March 5: Full Board and Committee Meetings

Nominations Committee: Closed Session: 7:30 a.m.-8:15 a.m.

Full Board: Closed Session: 8:30 a.m.-8:50 a.m.; Open Session: 8:50 a.m.-10:45 a.m.; Closed Session: 11:00 a.m.-12:00 p.m.

On March 3, 2016, the Board will meet in closed session from 2:30 p.m.-4:00 p.m. to take the 2014 NAEP Technology and Engineering Literacy (TEL) assessment for grade 8. Board members will access secure NAEP TEL items used in the 2014 TEL assessment. This part of the meeting must be conducted in closed session because the test items are secure and have not been released to the public. Public disclosure of the secure TEL items would significantly impede implementation of the NAEP assessment program if conducted in open session. Such matters are protected by exemption 9(B) of section 552b of title 5 U.S.C.

Thereafter, the Executive Committee will convene in closed session from 4:30 p.m. to 5:20 p.m., and in open session to conduct regularly scheduled work from 5:20 p.m. to 6:00 p.m. During the closed session, the Executive Committee will receive and discuss cost estimates and implications for implementing NAEP's Assessment Schedule through 2024. This meeting must be conducted in closed session because public disclosure of this information would likely have an adverse financial effect on the NAEP program by providing confidential cost details and proprietary contract costs of current contractors to the public. Discussion of this information would be likely to significantly impede implementation of a proposed agency action if conducted in open session. Such matters are protected by exemption 9(B) of section 552b of title 5 U.S.C.

On March 4, 2016, the Full Board will meet in open session from 8:30 a.m. to 10:00 a.m. The Board will review and approve the March 3-5, 2016 Board meeting agenda and meeting minutes from the November 2015 Quarterly Board meeting. This session will be followed by new Board member introductions and administration of the Oath of Office for new members. The Chairman will then deliver remarks on the Salzburg Global Seminar. Thereafter the Executive Director of the Governing Board, William Bushaw, will provide his report, followed by an update on the work of IES provided by Ruth Neild, Deputy Director for Policy and Research, IES. The NCES update will be provided by the Acting Commissioner of NCES, Peggy Carr. The Board will recess for committee meetings at 10:00 a.m. which are scheduled to take place from 10:15 a.m. to 12:45 p.m.

The Reporting and Dissemination (R&D) Committee will meet in open session from 10:15 a.m. to 12:00 p.m. and in closed session from 12:05 p.m. to 12:35 p.m. and thereafter in open session from 12:35 p.m. to 12:45 p.m. During the closed session, the Committee will preview and discuss a prototype of the Web site that will host results of the 12th grade NAEP reading and mathematics assessments. The data from these assessments have not been released and will not be released until a month after the Board meeting. This session must be closed because the Web site will display secure data that have not been released to the public and members will discuss the secure data. Disclosure of the secure data would significantly impede implementation of the NAEP assessment program if conducted in open session. Such matters are protected by exemption 9(B) of section 552b of title 5 U.S.C.

The Assessment Development Committee (ADC) will meet open session from 10:15 a.m. to 10:50 a.m., and in two closed sessions from 10:50 a.m. to 12:45 p.m. During the first closed session, scheduled from 10:50 a.m. to 12:00 p.m., the ADC will review secure NAEP test questions in grades 4 and 8 for the 2019 Mathematics pilot assessment. These test questions have not been released to the public. Disclosure of the secure data would significantly impede implementation of the NAEP assessment program if conducted in open session. Such matters are protected by exemption 9(B) of section 552b of title 5 U.S.C.

During the second closed session scheduled from 12:00 p.m. to 12:45 p.m. ADC will receive an embargoed briefing on NAEP's transition to digital-based assessment (DBA). The briefing will include secure data from the 2015 DBA pilot in Reading and Mathematics, which have not been publicly released. The briefing will also include secure NAEP test questions in Reading and Mathematics at grades 4 and 8. This meeting is being conducted in closed session because the data have not been released to the public. Public disclosure of the secure data would significantly impede implementation of the NAEP assessment program if conducted in open session. Such matters are protected by exemption 9(B) of section 552b of title 5 U.S.C.

On Friday March 4, 2016, the Committee on Standards, Design and Methodology (COSDAM) will meet in open session from 10:15 a.m. to 11:20 a.m. in closed session from 11:20 a.m. to 12:25 p.m. and in open session from 12:25 p.m. to 12:45 p.m. During the first part of the closed session (11:20 a.m. to 12:05 p.m.), COSDAM will discuss information regarding analyses of the 2015 bridge studies for paper-and-pencil and digital-based assessments, and discuss secure NAEP Reading and Mathematics data. This part of the meeting must be conducted in closed session because the analysis involves the use of secure data for the NAEP Reading and Mathematics assessments on digital-based platforms. Public disclosure of secure data would significantly impede implementation of the NAEP assessment program if conducted in open session. Such matters are protected by exemption 9(B) of section 552b of title 5 U.S.C.

During the second part of the closed session from 12:05 p.m. to 12:25 p.m., COSDAM will discuss requirements for an upcoming procurement to set achievement levels on the 2017 grade 4 Writing assessment. Public disclosure of procurement sensitive data would provide an unfair advantage to potential offerors, and significantly impede implementation of the NAEP assessment program if conducted in open session. Such matters are protected by exemption 9(B) of section 552b of title 5 U.S.C.

Following the committee meetings, on March 4, the full Board will meet in closed session from 1:00 p.m. to 2:30 p.m. to receive a briefing and discuss the 2014 NAEP Technology and Engineering Literacy (TEL) Report Card for Grade 8. Results of the TEL assessment have not been released to the public. Premature disclosure of the results would significantly impede implementation of the NAEP assessment program if conducted in open session. Such matters are protected by exemption 9(B) of 552b of title 5 U.S.C.

On March 4, 2016, from 3:00 p.m. to 4:00 p.m., the Board will meet in open session to receive a briefing on STEM perspectives from the Frameworks Institute. This session will then be followed by a briefing and discussion with Hill staff on legislative matters as they pertain to education policy issues and NAEP. The March 4, 2016 session of the Board meeting will adjourn at 5:00 p.m.

On March 5, 2016, the Nominations Committee will meet in closed session from 7:30 a.m. to 8:15 a.m. to discuss the final slate of candidates for Board vacancies for terms beginning on October 1, 2016. The Nominations Committee's discussions pertain solely to internal personnel rules and practices of an agency and information of a personal nature where disclosure would constitute an unwarranted invasion of personal privacy. As such, the discussions are protected by exemptions 2 and 6 of section 552b(c) of title 5 of the United States Code.

On March 5, 2016, the full Board will meet in closed session from 8:30 a.m. to 8:50 a.m. to discuss the final slate of candidates for Board vacancies for terms beginning October 1, 2016. The Board's discussions pertain solely to internal personnel rules and practices of an agency and information of a personal nature where disclosure would constitute an unwarranted invasion of personal privacy. As such, the discussions are protected by exemptions 2 and 6 of section 552b(c) of title 5 of the United States Code.

Following this closed session, the full Board will meet in open session from 8:50 a.m. to 9:00 a.m. to take action on the slate of candidates for the 2016 Board vacancies. From 9:15 a.m. to 9:45 a.m. the Board will receive committee reports and take action on the New Trial Urban Districts for 2017 and on the TEL Release Plan for Grade 8. Thereafter, from 9:45 a.m. to 10:45 a.m. the Board will receive an update and discuss the Governing Board's Strategic Planning Initiative.

The Board will meet in closed session on March 5, 2016 from 11:00 a.m. to 12:00 p.m. to receive a briefing and discuss the 2015 NAEP Reading and Mathematics Report Cards for Grade 12. This meeting must be conducted in closed session because results of this assessment have not been released to the public. Public disclosure of test results would significantly impede implementation of the NAEP assessment program if conducted in open session. Such matters are protected by exemption 9(B) of section 552b of title 5 U.S.C.

The March 5, 2016 meeting is scheduled to adjourn at 12:00 p.m.

Access to Records of the Meeting: Pursuant to FACA requirements, the public may also inspect the meeting materials at www.nagb.gov on Thursday, March 4, 2016 by 7:00 a.m. ET. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Pub. L. 107-279, Title III—National Assessment of Educational Progress section 301.

Dated: February 11, 2016.
William J. Bushaw,
Executive Director, National Assessment Governing Board, U.S. Department of Education.

[FR Doc. 2016-03343 Filed 2-17-16; 8:45 am]

BILLING CODE P